DEPARTMENT OF HOMELAND SECURITY

U.S. Citizenship and Immigration Services

Agency Information Collection Activities: Extension of a Currently Approved Information Collection; Comment Request

ACTION: 30-Day Notice of Information Collection Under Review: Form I-134, Affidavit of Support; OMB Control Number 1615-0014.

The Department of Homeland Security, U.S. Citizenship and Immigration Services (USCIS) has submitted the following information collection request to the Office of Management and Budget (OMB) for review and clearance in accordance with the Paperwork Reduction Act of 1995. The information collection was previously published in the Federal Register on December 19, 2006, at 71 FR 75970, allowing for a 60-day public comment period. USCIS received one comment from the public concerning the burden hour estimate. Accordingly, USCIS increased the burden estimate based on the comment.

The purpose of this notice is to allow an additional 30 days for public comments. Comments are encouraged and will be accepted until March 29, 2007. This process is conducted in accordance with 5 CFR 1320.10.

Written comments and/or suggestions regarding the item(s) contained in this notice, especially regarding the estimated public burden and associated response time, should be directed to the Department of Homeland Security (DHS), and to the Office of Management and Budget (OMB) USCIS Desk Officer. Comments may be submitted to: USCIS, Chief, Regulatory Management Division, Clearance Office, 111 Massachusetts Avenue, Suite 3008, Washington, DC 20529. Comments may also be submitted to DHS via facsimile to 202-272-8352 or via e-mail at rfs.regs@dhs.gov, and to the OMB USCIS Desk Officer via facsimile at 202-395-6974 or via e-mail at kastrich@omb.eop.gov.

When submitting comments by e-mail please make sure to add OMB Control Number 1615-0014 in the subject box. Written comments and suggestions from the public and affected agencies should address one or more of the following four points:

(1) Evaluate whether the proposed collection of information is necessary for the proper performance of the functions of the agency, including whether the information will have practical utility;

(2) Evaluate the accuracy of the agencies estimate of the burden of the proposed collection of information, including the validity of the methodology and assumptions used;

(3) Enhance the quality, utility, and clarity of the information to be collected; and

(4) Minimize the burden of the collection of information on those who are to respond, including through the use of appropriate automated, electronic, mechanical, or other technological collection techniques or other forms of information technology, e.g., permitting electronic submission of responses.

Overview of this information collection:

(1) Type of Information Collection: Extension of a currently approved information collection.

(2) Title of the Form/Collection: Affidavit of Support.

(3) Agency form number, if any, and the applicable component of the Department of Homeland Security sponsoring the collection: Form I-134. U.S. Citizenship and Immigration Services.

(4) Affected public who will be asked or required to respond, as well as brief abstract: Primary: Individuals or households. This information collection is used to determine if an applicant for an immigration benefit will become a public charge if admitted to the United States.

(5) An estimate of the total number of respondents and the amount of time estimated for an average respondent to respond: 44,000 responses at 90 minutes (1.5 hrs.) per response.

(6) An estimate of the total public burden (in hours) associated with the collection: 66,000 annual burden hours.

If you have additional comments, suggestions, or need a copy of the information collection instrument, please contact, Chief, Regulatory Management Division, U.S. Citizenship and Immigration Services, 111 Massachusetts Avenue, NW., Suite 3008, Washington, DC 20529; 202-272-8377.

Dated: February 16, 2007.
Richard A. Sloan,
Chief, Regulatory Management Division, U.S. Citizenship and Immigration Services, Department of Homeland Security.

1

[FR Doc. E7-3339 Filed 2-26-07; 8:45 am]

BILLING CODE 4410-10-P